DEPARTMENT OF LABOR

Wage and Hour Division

Special Industry Committee for All Industries in American Samoa; Appointment; Convention; Hearing; Extension of Comment Period

AGENCY: Wage and Hour Division, Labor.

ACTION: Notice of extension of comment period.

SUMMARY: This document extends the period for filing pre-hearing statements with the Special Industry Committee No. 25. Each pre-hearing statement shall contain the data specified in 29 CFR 511.8 of the regulations and shall be filed not later than May 23, 2003. This action is taken to permit additional comments from interested persons.

DATES: Comments must be received on or before May 23, 2003.

ADDRESSES: Send written comments to: National Office of the Wage and Hour Division, U.S. Department of Labor, 200 Constitution Avenue NW., Washington DC 20210.

FOR FURTHER INFORMATION CONTACT: Dave Flick, (202) 693-0065.

SUPPLEMENTARY INFORMATION: In the Federal Register of April 23, 2003 (Vol. 68, No. 78, Page 20032), the Department of Labor published a notice inviting the submission of pre-hearing statements to the Special Industry Committee for All Industries in American Samoa. Because of an unexpected delay in the release of the Economic Report, the Department will accept pre-hearing statements submitted by interested persons by May 23, 2003. If such statements are sent by airmail between American Samoa and the mainland, such filing shall be deemed timely if postmarked within the time provided. Interested persons are requested to submit comments on or before May 23, 2003.

Because of the continuing interest in this notice, the Department believes that it is desirable to extend the comment period for all interested persons. Therefore, the comment period for this notice pursuant to sections 5 and 6(a)(3) of the Fair Labor Standards Act (FLSA) of 1938, as amended (29 U.S.C. 205, 206(a)(3)), and Reorganization Plan No. 6 of 1950 (3 CFR 1949-53 Comp., p. 1004) and 29 CFR part 511, (Wage Order Procedure for American Samoa), is extended to May 23, 2003.

Signed at Washington, DC, this 1st day of May, 2003.
Eric S. Dreiband,
Deputy Administrator for Wage and Hour.

[FR Doc. 03-11274 Filed 5-6-03; 8:45 am]

BILLING CODE 4510-27-P